ENVIRONMENTAL PROTECTION AGENCY

[FRL9926-89-OW]

Notice of a Public Meeting and Webinar: Input on Potential Actions To Prepare for and Respond to Cyanotoxins in Drinking Water

AGENCY: Environmental Protection Agency (EPA).

ACTION: Notice of a public meeting.

SUMMARY: The U.S. Environmental Protection Agency (EPA) announces an opportunity for public input on potential actions states and public water systems can take to prepare for and respond to cyanotoxin health risks in drinking water. The Agency is holding a public meeting for interested parties to provide input either in person or online via a webinar. EPA is preparing Cyanotoxin Health Advisories and seeks to engage with stakeholders on other information the Agency can provide to best support states and public water systems in addressing cyanotoxin public health concerns in drinking water.

DATES: The public meeting will be held on May 11, 2015, from 10:00 a.m. to 5:00 p.m., Eastern Daylight Savings Time. Registration and check-in begins at 9:30 a.m. Persons wishing to attend the meeting in person or online via webinar must register by May 8, 2015, as described in the SUPPLEMENTARY INFORMATION section.

ADDRESSES: The public meeting will be held at Potomac Yard South Building, 1st Floor Conference Center (One Potomac Yard, 2777 S. Crystal Drive, Arlington, VA 22202). All attendees must show government-issued photo identification (e.g., a driver's license) when signing in. Please arrive at least 15 minutes early to allow time to clear security. This meeting will also be simultaneously broadcast as a webinar, available on the Internet.

FOR FURTHER INFORMATION CONTACT: Members of the public who wish to receive further information about the public meeting or have questions about this notice should contact Hannah Holsinger at (202) 564-0403 or holsinger.hannah@epa.gov.

SUPPLEMENTARY INFORMATION:

I. General Information

a. How may I participate in this meeting/webinar? Persons wishing to attend the meeting in person or online via the webinar must register in advance no later than 5:00 p.m., Eastern Daylight Savings Time, on May 8, 2015. To register, go online to Eventbrite at http://us-epa-cyanotoxins-drinking-water-public-meeting.eventbrite.com. Teleconferencing will be available for individuals participating via the webinar. The number of seats and webinar connections available for the meeting is limited and will be available on a first-come, first-served basis. Early registration is strongly encouraged to ensure proper accommodations. EPA will do its best to include all those interested in either meeting in person or via the webinar.

b. How can I get a copy of the meeting/webinar materials? Prior to the public meeting, the meeting materials will be sent by email to the registered attendees; copies will also be available for attendees at the meeting. For persons unable to attend the meeting, please contact Jini Mohanty at mohanty.jini@epa.gov to request meeting materials.

c. Special Accommodations: Individuals with disabilities who wish to attend the meeting in person can request special accommodations by contacting Jini Mohanty at mohanty.jini@epa.gov no later than May 8, 2015.

II. Background

Cyanobacteria are naturally occurring organisms similar to algae. These organisms can occur in fresh water and may rapidly multiply causing “blooms” under favorable conditions. Conditions that enhance bloom formation and persistence include light intensity and duration, nutrient availability (such as nitrogen and phosphorus), water temperature, pH and water column stability. Some blooms produce cyanotoxins such as microcystin, cylindrospermopsin and anatoxin-a, which can be a health concern. For additional background information on cyanotoxins in drinking water, please go to: http://www2.epa.gov/sites/production/files/2014-08/documents/cyanobacteria_factsheet.pdf.

EPA is developing health advisories for two cyanotoxins: microcystin and cylindrospermopsin. A health advisory is an estimate of acceptable drinking water levels for a contaminant based on health effects and other information, and also provides recommended analytical and treatment techniques. Health advisories are intended to assist federal, state, and local officials and public water system managers in achieving public health goals. A health advisory is not a legally enforceable standard under the Safe Drinking Water Act.

The focus of this public meeting is to gather input on additional information the Agency can provide to states and public water systems to help them prepare for and respond to potential cyanotoxin health concerns in drinking water.

Dated: April 20, 2015.
Peter Grevatt,
Director, Office of Ground Water and Drinking Water.

[FR Doc. 2015-09891 Filed 4-27-15; 8:45 am]

BILLING CODE 6560-50-P